DEPARTMENT OF ENERGY

[GDO Docket No. EA-365-C]

Application for Renewal of Authorization To Export Electric Energy; Centre Lane Trading Ltd.

AGENCY: Grid Deployment Office, Department of Energy.

ACTION: Notice of application.

SUMMARY: Centre Lane Trading Ltd. (the Applicant or Centre Lane) has applied for renewal of authorization to transmit electric energy from the United States to Canada pursuant to the Federal Power Act.

DATES: Comments, protests, or motions to intervene must be submitted on or before July 16, 2025.

ADDRESSES: Comments, protests, motions to intervene, or requests for more information should be addressed by electronic mail to Electricity.Exports@hq.doe.gov.

FOR FURTHER INFORMATION CONTACT: Janessa Zucchetto, (240) 474-8226, or Electricity.Exports@hq.doe.gov.

SUPPLEMENTARY INFORMATION: The United States Department of Energy (DOE) regulates electricity exports from the United States to foreign countries in accordance with section 202(e) of the Federal Power Act (FPA) (16 U.S.C. 824a(e)) and regulations thereunder (10 CFR 205.300 et seq.). Sections 301(b) and 402(f) of the DOE Organization Act (42 U.S.C. 7151(b) and 7172(f)) transferred this regulatory authority, previously exercised by the now-defunct Federal Power Commission, to DOE.

Section 202(e) of the FPA provides that an entity which seeks to export electricity must obtain an order from DOE authorizing that export (16 U.S.C. 824a(e)). On April 10, 2023, the authority to issue such orders was delegated to the DOE Grid Deployment Office (GDO) under Redelegation Order No. S3-DEL-GD1-2023.

On December 26, 2024, Centre Lane filed an application (Application or App.) for renewal of export authorization to transmit electric energy from the United States to Canada for a term of five years. App. at 1.

According to the Application, Centre Lane is a power marketer and a Canadian Corporation “with its principal place of business in Toronto, Ontario.” Id. at 1-2. The Applicant represents that it is FERC-authorized and that it “engag[es] in the purchase and sale of physical and/or virtual energy in the Day-ahead and Real-time Markets of various Independent System Operators and Regional Transmission Organizations.” Id. at 2.

The Applicant states that it “does not own, operate or control any generation or transmission facilities in any region, nor is it affiliated with any entity that owns, operates or controls generation or transmission facilities, and is not affiliated with any franchised public utility.” App. at 1-2. Centre Lane represents that it “has no electric power supply system on which the proposed exports could have a reliability, fuel use system or stability impact.” Id. at 3. The Applicant states that it “has no obligation to serve native load usually associated with a franchised service area, and, thus, the exports proposed . . . will not impair its ability to meet current and prospective power supply obligations.” Id. Moreover, Centre Lane states that it “will purchase power to be exported from a variety of sources” and that the electric power it will export on “either a firm or interruptible basis will not impair the sufficiency of the electric power supply within the U.S.” Id.

The Applicant further states that “[a]ll of the electricity exported . . . will be transmitted pursuant to arrangements with utilities that own and operate existing transmission facilities and will be consistent with the export limitations and other terms and conditions” contained in the authorizations associated with these transmission facilities. App. at 3. The Applicant represents that it “will schedule its transactions with the appropriate balancing authority areas in compliance with the reliability criteria standards and guidelines established by the [North American Electric Reliability Corporation] and its member Regional Entities in effect at the time of export.” Id. Centre Lane asserts that its proposed exports will not impair or tend to impede the regional coordination of electric utility planning or operations. Id. at 4.

The existing international transmission facilities to be utilized by the Applicant have been previously authorized by Presidential permits issued pursuant to Executive Order 10485, as amended, and are appropriate for open access transmission by third parties. See App. at Exhibit C.

Procedural Matters: Any person desiring to be heard in this proceeding should file a comment or protest to the Application at Electricity.Exports@hq.doe.gov. Protests should be filed in accordance with Rule 211 of the Federal Energy Regulatory Commission's (FERC's) Rules of Practice and Procedure (18 CFR 385.211). Any person desiring to become a party to this proceeding should file a motion to intervene at Electricity.Exports@hq.doe.gov in accordance with FERC Rule 214 (18 CFR 385.214).

Comments and other filings concerning Centre Lane's Application should be clearly marked with GDO Docket No. EA-365-C. Additional copies are to be provided directly to Ruta Kalvaitis Skucas, Esq., Crowell & Moring LLP, 1001 Pennsylvania Ave. NW, Washington, DC 20004, rskucas@crowell.com; Jason Brandt, CEO, Centre Lane Trading Ltd., 199 Bay Street, Suite 4500, Toronto, ON M5L 1G2, JBrandt@researchcapital.com.

A final decision will be made on the requested authorization after the environmental impacts have been evaluated pursuant to DOE's National Environmental Policy Act Implementing Procedures (10 CFR part 1021) and after DOE evaluates whether the proposed action will have an adverse impact on the sufficiency of supply or reliability of the United States electric power supply system.

Copies of this Application will be made available, upon request, by accessing the program website at https://www.energy.gov/gdo/pending-applications-0 or by emailing Electricity.Exports@hq.doe.gov.

Signing Authority

This document of the Department of Energy was signed on June 10, 2025, by Chris Wright, Secretary of Energy, U.S. Department of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on June 12, 2025.
Treena V. Garrett,
Federal Register Liaison Officer, U.S. Department of Energy.

[FR Doc. 2025-11017 Filed 6-13-25; 8:45 am]

BILLING CODE 6450-01-P